DEPARTMENT OF COMMERCE

International Trade Administration

[A-475-703]

Granular Polytetrafluoroethylene Resin From Italy: Continuation of Antidumping Duty Order

AGENCY: Import Administration, International Trade Administration, Department of Commerce.

DATES: Effective Date: July 18, 2011.

SUMMARY: As a result of the determinations by the Department of Commerce (“Department”) and the International Trade Commission (“ITC”) that revocation of the antidumping duty order on granular polytetrafluoroethylene resin (“PTFE resin”) from Italy would likely lead to a continuation or recurrence of dumping and material injury to an industry in the United States, the Department is publishing a notice of continuation of the antidumping duty order.

FOR FURTHER INFORMATION CONTACT: Patricia Tran or Nancy Decker, AD/CVD Operations, Import Administration, International Trade Administration, U.S. Department of Commerce, 14th Street and Constitution Avenue, NW., Washington, DC 20230; telephone: (202) 482-1503 and (202) 482-0196, respectively.

SUPPLEMENTARY INFORMATION: On November 1, 2010, the Department published in the Federal Register the notice of initiation of the third sunset review of the antidumping duty order on PTFE resin from Italy, pursuant to section 751(c)(2) of the Tariff Act of 1930, as amended (“the Act”). See Initiation of Five-Year (“Sunset”) Review, 75 FR 67082 (November 1, 2010). As a result of its review, the Department determined that revocation of the antidumping duty order on PTFE resin from Italy would likely lead to a continuation or recurrence of dumping and, therefore, notified the ITC of the magnitude of the margins likely to prevail should the order be revoked. See Granular Polytetrafluoroethylene Resin From Italy: Final Results of Expedited Sunset Review of the Antidumping Duty Order, 76 FR 12939 (March 9, 2011).

On July 7, 2011, the ITC published its determination in the Federal Register, pursuant to section 751(c)(1) of the Act, that revocation of the antidumping duty order on PTFE resin from Italy would likely lead to a continuation or recurrence of material injury to an industry in the United States within a reasonably foreseeable time. See Granular Polytetrafluoroethylene Resin From Italy, 76 FR 39896 (July 7, 2011), and USITC Publication 4240 (June 2011), Granular Polytetrafluoroethylene Resin From Italy, Investigation No. 731-TA-385, Third Review (Expedited).

Scope of the Order

The product covered by the order is PTFE resin, filled or unfilled. The order also covers PTFE wet raw polymer exported from Italy to the United States. See Granular Polytetrafluoroethylene Resin From Italy; Final Affirmative Determination of Circumvention of Antidumping Duty Order, 58 FR 26100 (April 30, 1993). The order excludes PTFE dispersions in water and fine powders. During the period covered by this review, such merchandise was classified under item number 3904.61.00 of the Harmonized Tariff Schedule of the United States (“HTSUS”). We are providing this HTSUS number for convenience and customs purposes only. The written description of the scope remains dispositive.

Continuation of the Order

As a result of the determinations by the Department and the ITC that revocation of the antidumping duty order would likely lead to a continuation or recurrence of dumping and material injury to an industry in the United States, pursuant to section 751(d)(2) of the Act, the Department hereby orders the continuation of the antidumping order on PTFE resin from Italy. U.S. Customs and Border Protection will continue to collect antidumping duty cash deposits at the rates in effect at the time of entry for all imports of subject merchandise. The effective date of the continuation of the order will be the date of publication in the Federal Register of this notice of continuation. Pursuant to sections 751(c)(2) and 751(c)(6) of the Act, the Department intends to initiate the next five-year review of the order not later than 30 days prior to the fifth anniversary of the effective date of continuation.

This five-year (sunset) review and this notice are in accordance with section 751(c) of the Act and published pursuant to section 777(i)(1) of the Act.

Dated: July 12, 2011.
Christian Marsh,
Acting Deputy Assistant Secretary for Import Administration.

[FR Doc. 2011-18039 Filed 7-15-11; 8:45 am]

BILLING CODE 3510-DS-P